SMALL BUSINESS ADMINISTRATION

[Disaster Declaration #12784 and #12785]

Vermont Disaster Number VT-00021

AGENCY: U.S. Small Business Administration.

ACTION: Amendment 3.

SUMMARY: This is an amendment of the Presidential declaration of a major disaster for the State of Vermont (FEMA-4022-DR), dated 09/01/2011.

Incident: Tropical Storm Irene.

Incident Period: 08/27/2011 and continuing.

Effective Date: 09/06/2011.

Physical Loan Application Deadline Date: 10/31/2011.

EIDL Loan Application Deadline Date: 06/01/2012.

ADDRESSES: Submit completed loan applications to: U.S. Small Business Administration, Processing and Disbursement Center, 14925 Kingsport Road, Fort Worth, TX 76155.

FOR FURTHER INFORMATION CONTACT: A. Escobar, Office of Disaster Assistance, U.S. Small Business Administration, 409 3rd Street, SW., Suite 6050, Washington, DC 20416.

SUPPLEMENTARY INFORMATION: The notice of the Presidential disaster declaration for the State of Vermont, dated 09/01/2011 is hereby amended to include the following areas as adversely affected by the disaster:

Primary Counties: (Physical Damage and Economic Injury Loans): Caledonia.

Contiguous Counties: (Economic Injury Loans Only):

Vermont: Essex, Orleans.

All other information in the original declaration remains unchanged.

(Catalog of Federal Domestic Assistance Numbers 59002 and 59008)

James E. Rivera,
Associate Administrator for Disaster Assistance.

[FR Doc. 2011-23577 Filed 9-13-11; 8:45 am]

BILLING CODE 8025-01-P